DEPARTMENT OF ENERGY

Federal Energy Regulatory Commission

[Docket Nos. ER99-3144-003, et al.]

Alliance Companies, et al.; Notice of Convening Session

February 27, 2001.

In the matter of Alliance Companies, Docket Nos. ER99-3144-003, ER99-3144-004 and ER99-3144-005; American Electric Power Service Corporation on behalf of: Appalachian Power Company, Columbus Southern Power Company, Indiana Michigan Power Company, Kentucky Power Company, Kingsport Power Company, Ohio Power Company, Wheeling Power Company, Docket Nos. EC99-80-003, EC99-80-004, and EC99-80-005; The Detroit Edison Company; First Energy Corporation on behalf of: The Cleveland Electric Illuminating Company, Ohio Edison Company, Pennsylvania Power Company, The Toledo Edison Company; Virginia Electric and Power Company; and Consumers Energy Company, Docket Nos. ER00-2869-000 and EC00-103-000 (not consolidated). Notice of Convening Session.

Pursuant to the order in Alliance Companies, et al., 94 FERC ¶ 61,070 (2001), the Commission directed parties with grandfathered contracts whose terms extend beyond the transition period to negotiate amendments or termination of such contracts. To assist the parties, the Commission directed the Director of the Commission's Dispute Resolution Service (DRS) to convene a meeting of the parties to explore the use of an ADR process to foster negotiation and agreement.

The convening session in this matter will be held on March 5, 2001 at the Federal Energy Regulatory Commission located at 888 First Street, NE., Washington, DC. The conference will begin at 11:00 a.m. in Room 3M-2A. Any questions with respect to the convening session should be directed to Amy Blauman. Her telephone number is (202) 208-2143 and her e-mail address is Amy.Blauman@ferc.fed.us

The purpose of the convening session will be to explore options for renegotiating or terminating the relevant grandfathered contracts, as directed by the Commission. In addition, the meeting will explore whether any future sessions should be held with all parties or with individual transmission companies and contracting parties.

David P. Boergers,
Secretary.

[FR Doc. 01-5177 Filed 3-2-01; 8:45 am]

BILLING CODE 6717-01-M